NATIONAL SCIENCE FOUNDATION

Public Access to Federally Supported Research and Development Data and Publications: Two Planning Meetings

AGENCIES: National Science Foundation, Department of Agriculture, National Institute of Standards and Technology, National Technical Information Service, National Oceanic and Atmospheric Administration, Department of Defense, Department of Education, Department of Energy, Department for Health and Human Services, Agency for Healthcare Research and Quality, Centers for Disease Control and Prevention, National Institutes of Health, United States Food and Drug Administration, United States Geological Survey, Department of Homeland Security, Department of Transportation, Department of Veterans Affairs, Environmental Protection Agency, Institute of Museum and Library Services, National Aeronautics and Space Administration, National Endowment for the Humanities, Office of the Director of National Intelligence, Smithsonian Institution, United States Agency for International Development.

ACTION: Notice of Open Meetings.

SUMMARY: This notice announces meetings organized by the National Science Foundation with the cooperation of other agencies (listed above).

DATES: May 14, 2013, 9 a.m.-5 p.m.; May 15, 2013, 9 a.m.-12 p.m.; May 16, 2013, 9 a.m.-5 p.m.; May 17, 2013, 9 a.m.-12 p.m.

ADDRESSES: Auditorium, NATIONAL ACADEMY OF SCIENCES, 2101 Constitution Avenue NW., Washington, DC 201418 (http://sites.nationalacademies.org/DBASSE/CurrentProjects/DBASSE_082378).

FOR FURTHER INFORMATION CONTACT: Dr. Myron Gutmann, National Science Foundation, Directorate for Social, Behavioral and Economic Sciences, 4201 Wilson Boulevard, Arlington, Virginia 22230. Phone (703) 292-8700, fax (703) 292-9803; Dr. Clifford J. Gabriel, National Science Foundation, Office of the Director, 4201 Wilson Boulevard, Arlington, Virginia 22230. Phone (703) 292-8002, fax (703) 292-9232. The most current information concerning these meetings can be found on the Web site: http://sites.nationalacademies.org/DBASSE/CurrentProjects/DBASSE_082378.

SUPPLEMENTARY INFORMATION:

Purpose of the Meetings: To seek broad input from concerned stakeholder groups concerning issues related to expanding public access to the results of Federally funded R&D, including peer-reviewed journal articles and digital scientific data, as part of the planning process called for in the Memorandum on Expanding Public Access to the Results of Federally Funded Research, released by the Office of Science and Technology Policy on February 22, 2013 (Section 2).

Summary: On behalf of a group of agencies, the National Academy of Sciences has organized 2 two-day meetings, one on public and a second on data, to allow members of the public and representatives of concerned stakeholder groups and communities to voice their concerns about issues related to public access to the results Federally funded R&D and thus to allow agencies which are covered by the February 22, 2013 memorandum and others which are complying with its terms voluntarily to consider these views as the agencies develop their respective plans, which are due to OSTP on August 22, 2013.

Public Participation: The meetings are open to the public. However, registration is required through the Web site: http://sites.nationalacademies.org/DBASSE/CurrentProjects/DBASSE_082378.

Transcript: A transcript of the meetings and written comments will be posted to the Web site within 60 days: http://sites.nationalacademies.org/DBASSE/CurrentProjects/DBASSE_082378.

Issued in Washington, DC on April 26, 2013.
Suzanne Plimpton,
Reports Clearance Officer, National Science Foundation.

[FR Doc. 2013-10298 Filed 4-30-13; 8:45 am]

BILLING CODE 7555-01-P